COMMODITY FUTURES TRADING COMMISSION

Sunshine Act Meetings

TIME AND DATE: 9:30 a.m. EDT, Wednesday, June 7, 2023.

PLACE: CFTC Headquarters Conference Center, Three Lafayette Centre, 1155 21st Street NW, Washington, DC.

STATUS: Open.

MATTERS TO BE CONSIDERED: The Commodity Futures Trading Commission (“Commission” or “CFTC”) will hold this meeting to consider the following matters:

• Final Rule: Governance Requirements for Derivatives Clearing Organizations;

• Proposed Rule: Derivatives Clearing Organizations Recovery and Orderly Wind-down Plans;

• Proposed Rule: Amendments to Part 17 Large Trader Reporting Requirements;

• Proposed Order/Request for Comments: European Union Non-Bank Swap Dealer Capital Comparability Determination; and

• Amendment to DCO Order of Registration: Cboe Clear Digital, LLC.

The agenda for this meeting will be available to the public and posted on the Commission's website at https://www.cftc.gov. Members of the public are free to attend the meeting in person, or have the option to listen by phone or view a live stream. Instructions for listening to the meeting by phone and connecting to the live video stream will be posted on the Commission's website.

In the event that the time, date, or place of this meeting changes, an announcement of the change, along with the new time, date, or place of the meeting, will be posted on the Commission's website.

CONTACT PERSON FOR MORE INFORMATION: Christopher Kirkpatrick, Secretary of the Commission, 202-418-5964.

Authority: 5 U.S.C. 552b.

Dated: May 31, 2023.
Christopher Kirkpatrick,
Secretary of the Commission.

[FR Doc. 2023-11956 Filed 6-1-23; 11:15 am]

BILLING CODE 6351-01-P